DEPARTMENT OF ENERGY

Federal Energy Regulatory Commission

[Docket No. OA97-25-007]

Northern States Power Company Minnesota and Wisconsin; Notice of Filing

May 24, 2000.

Take notice that on May 22, 2000, Northern States Power Company (Minnesota) and Northern States Power Company (Wisconsin) (jointly NSP) submitted a corrected transmission refund report. The original refund report was filed February 21, 2000, and was required by the Commission's December 20, 1999 letter order approving the Offer of Settlement filed on March 23, 1999, in the above captioned docket. See 89 FERC ¶ 61,200 (1999). The original refund report was accepted for filing by letter order dated April 10, 2000 in the above captioned docket.

NSP states that a copy of the Corrected Refund Report has been served on all parties on the official Commission service list for this proceeding, on all affected transmission service customers, and on affected state commissions.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before June 23, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/on/rims.htm (call 202-208-2222 for assistance).

Linwood A. Watson, Jr.,
Acting Secretary.

[FR Doc. 00-14128 Filed 6-5-00; 8:45 am]

BILLING CODE 6717-01-M